DEPARTMENT OF THE INTERIOR

Bureau of Land Management

[18X LLUTC01000 L51010000 ER0000 LVRWJ18J4210; UTU-92733]

Notice of Intent To Prepare an Environmental Impact Statement and To Initiate the Public Scoping Process for the Proposed Pine Valley Water Supply Project, Beaver and Iron County, UT

AGENCY: Bureau of Land Management, Interior.

ACTION: Notice of intent.

SUMMARY: In compliance with the National Environmental Policy Act of 1969, as amended (NEPA), and the Federal Land Policy and Management Act of 1976, as amended, the Bureau of Land Management (BLM), intends to prepare an Environmental Impact Statement (EIS) to consider a right-of-way (ROW) application submitted by the Central Iron County Water Conservancy District (CICWCD), referred to as the Pine Valley Water Supply (PVWS) Project.

DATES: This Notice initiates the public scoping process. Scoping comments may be submitted in writing until August 14, 2020.

ADDRESSES: You may submit written comments related to the proposed actions at https://eplanning.blm.gov/eplanning-ui/project/1503915/510, or by email at pvwsproject@gmail.com, or mail at Bureau of Land Management, Attn: PVWS, 176 DL Sargent Drive, Cedar City, Utah 84721.

FOR FURTHER INFORMATION CONTACT: Michelle Campeau, Cedar City Field Office Realty Specialist, telephone (435) 865-3047; address 176 DL Sargent Dr., Cedar City, UT 84721; email pvwsproject@gmail.com. Persons who use a telecommunications device for the deaf may call the Federal Relay Service (FRS) at 1-800-877-8339 to leave a message or question for the above individual. The FRS is available 24 hours a day, 7 days a week, to leave a message or question. Replies are provided during normal business hours.

SUPPLEMENTARY INFORMATION: The BLM will announce date(s) and location(s) of any public involvement opportunities through a news release and the BLM website at: https://www.blm.gov/news/utah. In order to be considered during the preparation of the Draft EIS, all comments must be received prior to the close of the 30-day scoping period or 15 days after the last public meeting, whichever is later. The BLM will provide additional opportunities for public participation upon publication of the Draft EIS.

On June 15, 2017, CICWCD applied for a ROW grant for the PVWS Project on BLM-managed public land in western Iron and Beaver counties, Utah. The proposed project would include the development of a system for the extraction and transport of water, which the CICWCD holds rights to as permitted by the Utah Division of Water Resources, from Pine Valley to Cedar Valley.

The EIS will analyze the development of 15 drilled production wells contained within above-ground well-houses, 10 of which are on BLM-managed public lands, all within the Pine Valley in Beaver County. The project also includes the development of buried feeder pipelines, access roads, above-ground power distribution lines, a solar field (on private land), large underground storage tank (on private land), and a main buried pipeline to transport water to Iron County communities. All portions of the project located on non-Federal land will be analyzed in the EIS as connected actions. The CICWCD proposed a 66.31-mile long buried water transmission pipeline, including lateral lines to connect the wells to the main line, with a total of approximately 42.61 miles of buried pipeline crossing BLM-managed public land. The CICWCD also applied for a 50-foot-wide, 30-year, 250-acre ROW, and during construction, an additional 70-foot-wide temporary ROW totaling approximately 382 acres. The CICWCD is requesting an additional width of 70 feet for temporary use along the pipeline corridor during construction. The total combined ROW width (including the ROW and the temporary ROW) during construction would be 120 feet. The BLM will prepare an EIS to consider the CICWCD application and a reasonable range of alternatives.

NEPA Process

The BLM will use an interdisciplinary approach to develop the EIS in order to consider the variety of resource issues and concerns identified during the scoping period. Potential direct, indirect, residual, and cumulative impacts from the proposed actions will be analyzed in the EIS.

The purpose of the public scoping process is to identify relevant subject areas that will influence the scope of the environmental analysis, including potential alternatives, and guide the process for developing the EIS. At present, the BLM has identified the following preliminary subject areas: Impacts to ground water, threatened and endangered species, including the federally listed Utah prairie dog, greater sage-grouse, and socioeconomic factors.

The BLM will follow the NEPA public participation requirements to satisfy the public involvement requirements under Section 106 of the National Historic Preservation Act (NHPA) (16 U.S.C. 470(f)) pursuant to 36 CFR 800.2(d)(3). Any information about historic and cultural resources within the area potentially affected by the proposed project will assist the BLM in identifying and evaluating impacts to such resources in the context of both NEPA and Section 106 of the NHPA.

The BLM will consult with Indian Tribes on a government-to-government basis in accordance with Executive Order 13175 and other policies. Tribal concerns, including impacts on Indian trust assets and potential impacts to cultural resources, will be given due consideration. The BLM actively coordinates with other Federal, State, and local agencies, along with Tribes and other stakeholders that may be interested in or affected by the proposed PVWS Project.

Before including your phone number, email address, or other personal identifying information in your comment, you should be aware that your entire comment—including your personal identifying information—may be made publicly available at any time. While you can ask us in your comment to withhold your personal identifying information from public review, we cannot guarantee that we will be able to do so.

Authority: 40 CFR 1502.9, 40 CFR 1506.6, 43 CFR 46.435, 43 CFR 2800.

Anita Bilbao,
Acting State Director.

[FR Doc. 2020-15300 Filed 7-14-20; 8:45 am]

BILLING CODE 4310-DQ-P